DEPARTMENT OF THE INTERIOR

National Park Service

General Management Plan/Environmental Impact Statement, Glen Echo Park, Maryland; Notice of Intent

In accordance with Section 102(2)(c) of the National Environmental Policy Act of 1969, the National Park Service (NPS) is preparing an Environmental Impact Statement (EIS) to assess the impacts of alternative management strategies for the General Management Plan (GMP) for Glen Echo Park, Maryland, which is a unit within the George Washington Memorial Parkway.

The GMP/EIS will evaluate a range of alternatives which address cultural and natural resources protection, socioeconomic concerns, traffic circulation and visitor use and will incorporate findings from studies prepared on transportation issues and financial aspects of managing the park.

Public involvement will be a key component in preparation of the General Management Plan and Environmental Impact Statement.

NPS held a public scoping meeting/open house on February 3, 1998 at the Clara Barton Community Center. Through a workshop format, the meeting provided an overview of the planning effort and an opportunity for the public to discuss their concerns with park staff and provide oral and written comments. Those unable to attend submitted their comments through the mail or over the Internet.

The draft GMP and EIS are expected to be completed and available for public review by the winter of 2000. After public and interagency review of the draft document, comments will be considered and a final GMP and EIS will be prepared for release by the summer, 2000, which will be followed by a record of decision. The responsible official is the Regional Director, National Capital Region, National Park Service. Written comments should be submitted to the Superintendent of George Washington Memorial Parkway, c/o Turkey Run Park, McLean, Virginia 22101 or via e-mail at GWMP_Superintendent@nps.gov.

Joseph M. Lawler,
Acting, Regional Director.

[FR Doc. 00-6113 Filed 3-10-00; 8:45 am]

BILLING CODE 4310-70-M